DEPARTMENT OF LABOR

Mine Safety and Health Administration

Petitions for Modification

The following parties have filed petitions to modify the application of existing safety standards under section 101(c) of the Federal Mine Safety and Health Act of 1977.

1. Baylor Mining, Inc.

[Docket No. M-2003-027-C]

Baylor Mining, Inc., PO Box 577, Mabscott, West Virginia 25871 has filed a petition to modify the application of 30 CFR 75.364(a)(1) (Weekly examination) to its Beckley Crystal Mine (MSHA I.D. No. 46-08829) located in Raleigh County, West Virginia. Due to deteriorating roof conditions and several roof falls, it is unsafe to travel to the deepest point of penetration on a weekly examination. The petitioner proposes to check intake and return air courses on a weekly basis at the point designated on the attached map marked “Dangered Off”. The petitioner states that the main intake airshaft is located approximately 800 feet from the deepest penetration of the marked section, 40,000 cfm of air passes around the faces to the return, and that its proposed alternative method would not result in a diminution of safety to the miners. The petitioner asserts that the proposed alternative method would provide at least the same measure of protection as the existing standard.

2. Blue Diamond Coal Company

[Docket No. M-2003-028-C]

Blue Diamond Coal Company, PO Box 47, Slemp, Kentucky 41763 has filed a petition to modify the application of 30 CFR 75.900 (Low- and medium-voltage circuits serving three-phase alternating current equipment; circuit breakers) to its Mine No. 74 (MSHA I.D. No. 15-18022), Mine No. 75 (I.D. No. 15-17478), and Mine No. 77 (I.D. No. 15-09636) all located in Perry County, Kentucky. The petitioner proposes to use contactors in lieu of under-voltage protection on the circuit breaker. The petitioner states that short circuit protection will continue to be provided by a circuit breaker with required interrupting retrips. The petitioner has listed in this petition specific terms and conditions that would be followed when its proposed alternative method is implemented. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before June 2, 2003. Copies of these petitions are available for inspection at that address.

Dated at Arlington, Virginia this 28th day of April 2003.
Marvin W. Nichols, Jr.,
Director, Office of Standards, Regulations, and Variances.

[FR Doc. 03-10823 Filed 5-1-03; 8:45 am]

BILLING CODE 4510-43-P